DEPARTMENT OF HOUSING AND URBAN DEVELOPMENT

[Docket No. FR-5200-FA-14]

Announcement of Funding Awards for the Resident Opportunities and Self-Sufficiency (ROSS) Service Coordinators Program for Fiscal Year 2008

AGENCY: Office of Public and Indian Housing, HUD.

ACTION: Announcement of funding awards.

SUMMARY: In accordance with Section 102(a)(4)(C) of the Department of Housing and Urban Development Reform Act of 1989, this announcement notifies the public of funding decisions made by the Department for funding under the FY 2008 Notice of Funding Availability (NOFA) for the Resident Opportunities and Self-Sufficiency (ROSS) Service Coordinators Program funding for Fiscal Year 2008. This announcement contains the consolidated names and addresses of those award recipients selected for funding based on the funding priority categories established in the NOFA.

FOR FURTHER INFORMATION CONTACT: For questions concerning the FY 2008 Resident Opportunities and Self-Sufficiency (ROSS) Service Coordinators Program awards, contact the Office of Public and Indian Housing's Grant Management Center, Acting Director, Keia L. Neal, Department of Housing and Urban Development, Washington, DC, telephone (202) 475-8908. For the hearing or speech impaired, these numbers may be accessed via TTY (text telephone) by calling the Federal Information Relay Service at 1 (800) 877-8339. (Other than the “800” TTY number, these telephone numbers are not toll-free.)

SUPPLEMENTARY INFORMATION: The authority for the $28,000,000 in one-year budget authority for the Resident Opportunities and Self-Sufficiency (ROSS) Service Coordinators Program is found in the Departments of Veteran Affairs and Housing and Urban Development, and Independent Agencies Appropriations Act, 2008 (Pub. L. 110-161). The allocation of housing assistance budget authority is pursuant to the provisions of 24 CFR part 791, subpart D, implementing section 213(d) of the Housing and Community Development Act of 1974, as amended.

The purpose of the ROSS Service Coordinators program is to provide funding to hire and maintain Service Coordinators who will assess the needs of residents of conventional Public Housing or Indian housing and coordinate available resources in the community to meet those needs. The ultimate goal of the Service Coordinator is to assist families to increase earned income and move towards economic and housing self-sufficiency.

The Fiscal Year 2008 awards announced in this Notice were selected for funding in a competition announced in the Federal Register NOFA published on May 12, 2008. In accordance with Section 102(a)(4)(C) of the Department of Housing and Urban Development Reform Act of 1989 (103 Stat. 1987, 42 U.S.C. 3545), the Department is publishing the names, addresses, and amounts of the 93 awards made under the Resident Opportunities and Self-Sufficiency Service Coordinators competition.

Dated: April 28, 2009.
Paula O. Blunt,
General Deputy Assistant Secretary for Public and Indian Housing.

Recipient | Address | City | State | Zip code | Amount
Kenaitze/Salamatof Tribally Designated Housing Entity | P.O. Box 988, 150 N. Willow Street | Kenai | AK | 99611 | $240,000
Prichard Housing Authority | 4559 St. Stephens Road | Eight Mile | AL | 36613 | 240,000
The Housing Authority of the City of Huntsville | 200 Washington Street | Huntsville | AL | 35804 | 462,000
Pinal County Division of Housing | 970 No. Eleven Mile Corner Road | Casa Grande | AZ | 85294 | 186,000
Housing Authority of the City of Madera | 205 North G Street | Madera | CA | 93637 | 207,564
Housing Authority of the City of San Buenaventura | 995 Riverside Street | Ventura | CA | 93001 | 204,000
Housing Authority of the County of Merced | 405 U Street | Merced | CA | 95340 | 240,000
Housing Authority of the County of Riverside | 5555 Arlington Avenue | Riverside | CA | 92504 | 240,000
Housing Authority of the County of Santa Barbara | 815 West Ocean Avenue | Lompoc | CA | 93436 | 240,000
The Housing Authority of the County of Los Angeles | 2 Coral Circle | Monterey Park | CA | 91755 | 720,000
Barney Ford Local Resident Council | 2024 Clarkson Street | Denver | CO | 80205 | 187,200
North Lincoln Homes Local Resident Council | 1401 Maricopa Street | Denver | CO | 80204 | 187,200
North Lincoln Midrise Local Resident Council | 1425 Mariposa Street | Denver | CO | 80204 | 187,200
Platte Valley—Dispersed East Local Resident Council | 3050 Champa Street | Denver | CO | 80205 | 187,200
Quigg Newton Homes Local Resident Council | 4407 Mariposa Way | Denver | CO | 80211 | 202,317
South Lincoln Homes Local Resident Council | 1000 Navajo Street | Denver | CO | 80204 | 202,317
Sun Valley Homes Local Resident Council | 990 Alcott | Denver | CO | 80204 | 202,317
Thomas Bean Towers Local Resident Council | 2350 Cleveland Place | Denver | CO | 80205 | 187,200
Thomas Connole Local Resident Council | 1710 Williams Street | Denver | CO | 80218 | 187,200
Walsh Manor Local Resident Council | 1790 Mosier Place | Denver | CO | 80223 | 187,200
Westridge-Dispersed West Local Resident Council | 3550 West 13th Avenue | Denver | CO | 80204 | 202,317
Westwood Homes Local Resident Council | 3401 West Kentucky | Denver | CO | 80219 | 202,317
Bristol Housing Authority | 164 Jerome Street | Bristol | CT | 6010 | 240,000
Housing Authority of the City of Ansonia | 36 Main Street | Ansonia | CT | 6401 | 240,000
Housing Authority of the City of Bridgeport | 150 Highland Avenue | Bridgeport | CT | 6604 | 467,388
Housing Authority of the Town of Greenwich | 249 Milbank Avenue | Greenwich | CT | 6830 | 224,096
Lee County Housing Authority | 14170 Warner Circle, Northwest | North Fort Myers | FL | 33903 | 174,000
Northwest Georgia Housing Authority | 800 North Fifth Avenue | Rome | GA | 30162 | 367,094
Centers for New Horizons | 4150 S. King Drive | Chicago | IL | 60653 | 240,000
Central Advisory Council | 243 East 32nd Street | Chicago | IL | 60616 | 720,000
Heartland Housing, Inc | 208 S. LaSalle Street, Suite 1818 | Chicago | IL | 60604 | 74,500
Housing Authority of Champaign County | 205 West Park Avenue | Champaign | IL | 61820 | 240,000
Macoupin County Housing Authority | P.O. Box 226, 760 Anderson Street | Carlinville | IL | 62626 | 123,930
The Community Builders, Inc | 1 North LaSalle Street, Suite 1200 | Chicago | IL | 60602 | 240,000
Uhlich Children's Advantage Network | 3737 North Mozart Street | Chicago | IL | 60618 | 165,000
Kokomo Housing Authority of the City of Kokomo, IN | P.O. Box 1207, 210 East Taylor Street | Kokomo | IN | 46903 | 200,300
New Albany Housing Authority | P.O. Box 11 | New Albany | IN | 47150 | 424,362
Bryant Way Resident Council | 247 Double Springs Road | Bowling Green | KY | 42101 | 158,091
Gordon Avenue/Summit View Resident Council | 247 Double Springs Road | Bowling Green | KY | 42101 | 128,800
Housing Authority of Corbin | 1336 Madison Street | Corbin | KY | 40701 | 142,454
Housing Authority of Floyd County | 402 John M. Stumbo Drive | Langley | KY | 41645 | 59,697
Housing Authority of Owensboro | 2161 East 19th Street | Owensboro | KY | 42303 | 171,750
The Commonwealth Tenants Association | 35 Fidelis Way | Brighton | MA | 02135 | 240,000
Resident Services Incorporated | 417 E. Fayette Street, Room 923 | Baltimore | MD | 21202 | 720,000
Lewiston Housing Authority | 1 College Street | Lewiston | ME | 04240 | 138,600
Housing Authority of the City of Columbia, Missouri | 201 Switzler Street | Columbia | MO | 65203 | 188,655
Natchez Housing Authority | 2 Auburn Avenue | Natchez | MS | 39213 | 240,000
Missoula Housing Authority | 1235 34th Street | Missoula | MT | 59801 | 240,000
Public Housing Authority of Butte's Resident Council | 220 Curtis Street | Butte | MT | 59701 | 126,090
Burlington Development Corporation | P.O. Box 2380, 133 N. Ireland Street | Burlington | NC | 27217 | 209,388
Fargo Housing and Redevelopment Authority | 325 Broadway, Box 430 | Fargo | ND | 58107 | 190,557
Minot Housing Authority | 108 Burdick Expressway East | Minot | ND | 58701 | 160,982
Kearney Housing Agency | 2715 Avenue 1 | Kearney | NE | 68847 | 67,821
Cerebral Palsy Association of Middlesex County, Inc | 10 Oak Drive | Edison | NJ | 08837 | 240,000
Housing Authority of the City of Camden | 2021 Watson Street, 2nd Floor | Camden | NJ | 08105 | 240,000
Housing Authority of the City of Rahway | 165 East Grand Avenue | Rahway | NJ | 07065 | 238,000
Jersey City Housing Authority | 400 U.S. Highway #1 | Jersey City | NJ | 07306 | 720,000
Housing Authority of the City of Las Vegas | 340 N 11th Street | Las Vegas | NV | 89101 | 414,000
Buffalo Municipal Housing Authority | 300 Perry Street | Buffalo | NY | 14204 | 720,000
Municipal Housing Authority of the City of Utica, New York | 509 2nd Street, Suite 1 | Utica | NY | 13501 | 240,000
Niagara Falls Housing Authority | 744 Tenth Street | Niagara Falls | NY | 14301 | 199,200
Ocean Bay Community Development Corporation | 424 Beach 54th Street | Arverne | NY | 11692 | 693,300
Rochester Housing Authority | 675 West Main Street | Rochester | NY | 14611 | 430,532
Syracuse Housing Authority | 516 Burt Street | Syracuse | NY | 13202 | 480,000
The Municipal Housing Authority for the City of Yonkers | P.O. Box 35, 1511 Central Park Avenue | Yonkers | NY | 10710 | 480,000
The Village of Spring Valley Housing Authority | 76 Gesner Drive | Village of Spring Valley | NY | 10977 | 186,000
Columbiana Metropolitan Housing Authority | 325 Moore Street | East Liverpool | OH | 43920 | 240,000
Jurisdiction-Wide Resident Advisory Board | 2601 Melrose Avenue, Suite 102 | Cincinnati | OH | 45206 | 720,000
Lucas Metropolitan Housing Authority | 435 Nebraska Avenue | Toledo | OH | 43604 | 605,512
Zanesville Metropolitan Housing Authority | 407 Pershing Road | Zanesville | OH | 43701 | 233,330
Housing Authority of the City of Tulsa | 415 East Independence | Tulsa | OK | 74106 | 308,614
Housing Authority of Clackamas County | 13930 South Gain Street | Oregon City | OR | 97045 | 233,500
Housing Authority of Lincoln County | P.O. Box 1470, 1039 NW Nye Street | Newport | OR | 97365 | 240,000
Housing Authority of Portland | 135 SW Ash | Portland | OR | 97204 | 720,000
Allegheny County Housing Authority | 625 Stanwix Street, 12th Floor | Pittsburgh | PA | 15222 | 629,640
Da-Network Housing Ministries, Inc | 236 West Champlost Avenue | Philadelphia | PA | 19120 | 480,000
Housing Authority of the City of York | P.O. Box 1963, S. Broad Street | York | PA | 17403 | 395,974
Philadelphia Housing Authority | 12 South 23rd Street, 6th Floor | Philadelphia | PA | 19103 | 718,000
Westmoreland County Housing Authority | 154 South Greengate Road | Greensburg | PA | 15601 | 381,488
Wilkes-Barre Housing Authority | 50 Lincoln Plaza | Wilkes-Barre | PA | 18702 | 240,000
The Housing Authority of the City of Providence | 100 Broad Street | Providence | RI | 02903 | 649,896
The Housing Authority of the City of Greenville, SC | 511 Augusta Street | Greenville | SC | 29605 | 216,871
Johnson City Public Housing Authority | 901 Pardee Street | Johnson City | TN | 37601 | 237,980
Housing Authority of the City of El Paso | 5300 Paisano Drive | El Paso | TX | 79905 | 545,268
Chesapeake Redevelopment and Housing Authority | 1468 South Military Highway | Chesapeake | VA | 23320 | 240,000
Danville Redevelopment and Housing Authority | 135 Jones Crossing | Danville | VA | 24541 | 190,500
Pleasant View Tenant Association, Incorporated | 101 Pleasant View Avenue | Danville | VA | 24541 | 190,500
Burlington Housing Authority | 65 Main Street | Burlington | VT | 05401 | 216,000
Housing Authority of the City of Bremerton | 110 Russell Road | Bremerton | WA | 98312 | 240,000
Housing Authority of the City of Tacoma | 902 South L Street | Tacoma | WA | 98405 | 240,000
S.E.T. Ministry, Inc. | 2977 North 50th Street | Milwaukee | WI | 53210 | 540,651
Superior Housing Authority | 1219 North Eighth Street | Superior | WI | 54880 | 240,000
Huntington WV Housing Authority | 300 Seventh Avenue West | Huntington | WV | 25701 | 161,000

[FR Doc. E9-11097 Filed 5-12-09; 8:45 am]

BILLING CODE 4210-67-P